DEPARTMENT OF ENERGY

Senior Executive Service Performance Review Board

AGENCY: Department of Energy.

ACTION: Designation of Performance Review Board Standing Register.

SUMMARY: This notice provides the Performance Review Board Standing Register for the Department of Energy. This listing supersedes all previously published lists of PRB members.

DATES: This appointment is effective as of September 30, 2015.

Bremer, John

Brown, Fred

Cooper, Suzanne

Dickinson, Mark

Erhart, Steven

Gilbertson, Mark

Grose, Amy

Lee, Terri

Lenhard, Joseph

Livengood, Joanna

Mays, Cyndi

McMillian, Jimmy

Mefford, Penny

Mollot, Darren

Moore, Johnny

O'Konski, Peter

Pearson, Gina

Issued in Washington, DC, October 23, 2015.
Erin S. Moore,
Acting Director, Office of Corporate Executive Management, Office of the Chief Human Capital Officer.

[FR Doc. 2015-27757 Filed 10-29-15; 8:45 am]

BILLING CODE 6450-01-P